DEPARTMENT OF TRANSPORTATION

Federal Railroad Administration

Petition for Waiver of Compliance

In accordance with Part 211 of Title 49 Code of Federal Regulations (CFR), notice is hereby given that the Federal Railroad Administration (FRA) has received a request for a waiver of compliance with certain requirements of its safety standards. The individual petition is described below, including the party seeking relief, the regulatory provisions involved, the nature of the relief being requested, and the petitioner's arguments in favor of relief.

Memphis Area Transit Authority

[Waiver Petition Docket Number FRA-2008-0063]

The Memphis Area Transit Authority (MATA) seeks a permanent waiver of compliance from sections of Title 49 of the CFR for operation of its vintage Main Street Trolley line, which features “limited connections” such as a shared corridor operation and a diamond at-grade rail crossing of Canadian National/Illinois Central Railroad (CN/IC) track by the streetcar. See Statement of Agency Policy Concerning Jurisdiction Over the Safety of Railroad Passenger Operations and Waivers Related to Shared Use of the Tracks of the General Railroad System by Light Rail and Conventional Equipment, 65 FR 42529 (July 10, 2000). See also Joint Statement of Agency Policy Concerning Shared Use of the Tracks of the General Railroad System by Conventional Railroads and Light Rail Transit Systems, 65 FR 42626 (July 10, 2000).

The Main Street Trolley line is a 7 mile long, urban transit system serving 35 stations, and partially shares a riverfront corridor with CN/IC. Along this shared corridor, there are 11 shared highway-rail at grade crossings and one diamond at-grade rail crossing in which the streetcar crosses the CN/IC north of Auction Avenue as it heads south to GE Patterson Avenue. All shared highway rail at grade crossings have signalized crossing protection. Also, the diamond at-grade rail crossing is fully interlocked and signaled. All maintenance is performed by CN/IC.

MATA's Main Street Trolley line shares a limited connection to the general freight system at 11 highway-rail at grade crossings and 1 diamond at-grade rail crossing, and seeks a permanent waiver of compliance from Title 49 of the CFR, specifically: Part 210 Noise Emissions; Part 215 Freight Car Safety Standards; Part 218 Railroad Operating Practices; Part 219 Drug and Alcohol; Part 221 Rear End Marking Devices; Part 223 Safety Glazing Standards; Part 228 Hours of Service (for MATA streetcar operators and dispatchers); Part 229 Locomotive Safety Standards; Part 231 Railroad Safety Appliances; Part 238 Passenger Equipment Safety Standards; Part 239 Passenger Emergency Preparedness; and Part 240 Engineer Certification.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number FRA-2008-0063) and may be submitted by any of the following methods:

• Web site: http://www.regulations.gov. Follow the online instructions for submitting comments.

• Fax: 202-493-2251.

• Mail: Docket Operations Facility, U.S. Department of Transportation, 1200 New Jersey Avenue, SE., W12-140, Washington, DC 20590.

• Hand Delivery: 1200 New Jersey Avenue, SE., Room W12-140, Washington, DC 20590, between 9 a.m. and 5 p.m., Monday through Friday, except Federal holidays.

Communications received within 45 days of the date of this notice will be considered by FRA before final action is taken. Comments received after that date will be considered as far as practicable. All written communications concerning these proceedings are available for examination during regular business hours (9 a.m.—5 p.m.) at the above facility. All documents in the public docket are also available for inspection and copying on the Internet at the docket facility's Web site at http://www.regulations.gov.

Anyone is able to search the electronic form of any written communications and comments received into any of our dockets by the name of the individual submitting the comment (or signing the comment, if submitted on behalf of an association, business, labor union, etc.). You may review DOT's complete Privacy Act Statement in the Federal Register published on April 11, 2000 (Volume 65, Number 70; Pages 19477-78).

Issued in Washington, DC, on July 9, 2008.
Grady C. Cothen, Jr.,
Deputy Associate Administrator for Safety Standards and Program Development.

[FR Doc. E8-16130 Filed 7-14-08; 8:45 am]

BILLING CODE 4910-06-P